FEDERAL COMMUNICATIONS COMMISSION

47 CFR Part 73

[DA 00-321; MM Docket No. 98-55; RM-9255, RM-9327

Radio Broadcasting Services; Pleasanton, Bandera, Hondo, and Schertz, Texas

AGENCY: Federal Communications Commission.

ACTION: Final rule.

SUMMARY: The Commission, at the request of Reding Broadcasting Company, substitutes Channel 252A for Channel 253C1 at Pleasanton, TX, reallots Channel 253C1 from Pleasanton to to Schertz, TX as the community's first local aural service, and modifies its license for Station KBUC(FM) to specify the higher class channel and new community of license. See 63 FR 20563 (1998). To accomplish these changes, the Commission also substitutes Channel 253A for Channel 290A at Hondo, TX with a transmitter site change, and Channel 252A for Channel 276A at Bandera, TX, at the licensed cite. Counterproposals filed by Comal Broadcasting Company and North American Broadcasting Company are dismissed. The coordinates for Channel 253C1 at Schertz are 29-31-25 and 98-43-25. The coordinates for Channel 276A at Bandera are 29-51-22 and 99-05-25. The coordinates for Channel 290A at Hondo are 29-21-00 and 99-15-00. These communities are located within 320 kilometers (199 miles) of the U.S.-Mexican border. Therefore, concurrence by the Mexican Government for these allotments has been received.

DATES: Effective April 3, 2000.

FOR FURTHER INFORMATION CONTACT: Victoria M. McCauley, Mass Media Bureau, (202) 418-2180.

SUPPLEMENTARY INFORMATION: This is a synopsis of the Commission's Report and Order, MM Docket No. 98-55, adopted February 9, 2000, and released February 18, 2000. The full text of this Commission decision is available for inspection and copying during normal business hours in the FCC Information Center (Room CY-A257), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Texas, is amended by adding Schertz, Channel 253C1, removing Pleasanton, Channel 252A, removing Channel 253A at Hondo, and adding Channel 290A at Hondo, and removing Channel 252A at Bandera, and adding Channel 276A at Bandera.

Federal Communications Commission.
John A. Karousos,
Chief, Allocations Branch, Policy and Rules Division, Mass Media Bureau.

[FR Doc. 00-7600 Filed 3-27-00; 8:45 am]

BILLING CODE 6712-01-U